DEPARTMENT OF LABOR

Employment and Training Administration

Comment Request for Information Collection, Equal Employment Opportunity in Apprenticeship and Training, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about Title 29 CFR Part 30, Equal Employment Opportunity in Apprenticeship and Training, Complaint Form—Equal Employment Opportunity In Apprenticeship Programs, ETA-9039 which expires on February 28, 2013.

DATES: Written comments must be submitted to the office listed in the addresses section below on or before January 28, 2013.

ADDRESSES: Submit written comments to John V. Ladd, Administrator, Office of Apprenticeship, Room N-5311, Employment and Training Administration, U.S. Department of Labor, 200 Constitution Avenue NW., Washington, DC 20210. Telephone number: 202-693-2796 (this is not a toll-free number). Individuals with hearing or speech impairments may access the telephone number above via TTY by calling the toll-free Federal Information Relay Service at 1-877-889-5627 (TTY/TDD). Fax: 202-693-3799. Email: oa.administrator@dol.gov. A copy of the proposed information collection request (ICR) can be obtained by contacting the office listed above.

SUPPLEMENTARY INFORMATION:

I. Background

The National Apprenticeship Act of 1937 (Act), Section 50 (29 U.S.C. 50), authorizes and directs the Secretary of Labor (Secretary) “to formulate and promote the furtherance of labor standards necessary to safeguard the welfare of apprentices, to extend the application of such standards by encouraging the inclusion thereof in contracts of apprenticeship, to bring together employers and labor for the formulation of programs of apprenticeship, to cooperate with State agencies engaged in the formulation and promotion of standards of apprenticeship, and to cooperate with the Secretary of Education in accordance with Section 17 of Title 20.” Section 50a of the Act authorizes the Secretary to “publish information relating to existing and proposed labor standards of apprenticeship,” and to “appoint national advisory committees * * *” (29 U.S.C. 50a).

Title 29 CFR Part 30 sets forth policies and procedures to promote equality of opportunity in apprenticeship programs registered with the Department and recognized State Apprenticeship Agencies. These policies and procedures apply to recruitment and selection of apprentices, and to all conditions of employment and training during apprenticeship. The procedures provide for review of apprenticeship programs, for registering apprenticeship programs, for processing complaints, and for deregistering non-complying apprenticeship programs. This part also provides policies and procedures for continuation or withdrawal of recognition of State agencies which register apprenticeship programs for Federal purposes.

The Complaint Form—Equal Employment Opportunity in Apprenticeship Programs, ETA Form 9039, is used by applicants and/or apprentices to file a complaint of discrimination with the Department. Since this form expires on February 28, 2013, ETA is seeking an extension of this form without revisions.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Title 29 CFR Part 30, Equal Employment Opportunity in Apprenticeship and Training.

OMB Number: 1205-0224.

Affected Public: Applicants, Apprentices, Sponsors, State Apprenticeship Agencies or Councils, Tribal Governments.

Form(s): ETA Form 9039.

Total Annual Burden Cost for Respondents: $0.00.

Data collection activity | Number of respondents | Frequency | Total responses | Average time per response | Burden hours
30.3 | 760 New program sponsors with 5 or less apprentices in their programs | 1-time basis | 760 | ½ hr./Sponsors | 380
30.4 | 87 New program sponsors with 5 or more apprentices in their programs | 1-time basis | 87 | 1 hr./Sponsors | 87
30.5 | 2,700 Active program sponsors with 5 or more apprentices | 1-time basis | 2,700 | ½ hr./Sponsors | 1,350
30.6 | 50 Existing list of eligibles and public notice | 1-time basis | 50 | 5 hrs./Sponsors | 250
30.8 | 23,600 Active program sponsors | 1-time/program | 23,600 | 1 min./Sponsors | 393
30.8 | 27 State Agencies | On occasion | 13,160 | 5 min./Sponsors | 1,097
30.11 | 23,600 Active program sponsors | 1 time | 23,600 | Handout Complaint Procedures |
ETA 9039 EEO Complaint Form | 50 Applicants/Apprentices | 1-time basis | 50 | ½ hr. | 25
30.15 | 30 State Agencies | 1-time | Completed In 1978 |  |
30.19 | 27 State Agencies | Varies |  |  |
Totals | 23,676 |  | 40,407 |  | 3,582

Total Respondents: 23,677 = (23,600 Program Sponsors + 27 State Agencies + 50 Applicants/Apprentices).

Comments submitted in response to this comment request will be summarized and/or included in the request for Office of Management and Budget approval of the ICR; they will also become a matter of public record.

Dated: Signed in Washington, DC, on this 3rd day of October, 2012.
Jane Oates,
Assistant Secretary for Employment and Training, Labor.

[FR Doc. 2012-28738 Filed 11-26-12; 8:45 am]

BILLING CODE 4510-FR-P